DEPARTMENT OF JUSTICE

Office of Justice Programs

Agency Information Collection Activities; Proposed Collection; Comments Requested

ACTION: 60-Day notice of information collection under review: extension of a currently approved collection; Equal Employment Opportunity Plan certification and short form.

The Department of Justice (DOJ), Office of Justice Programs, Office for Civil Rights, has submitted the following information collection request to the Office of Management and Budget (OMB) for review and approval in accordance with the Paperwork Reduction Act of 1995. The proposed information collection is published to obtain comments from the public and affected agencies. Comments are encouraged and will be accepted for “sixty days” until October 15, 2002.

If you have comments especially on the estimated public burden or associated response time, suggestions, or need a copy of the proposed information collection instrument with instructions with instructions or additional information, please contact Daphne Felten-Green (202) 305-3010, Office of Justice Programs, US Department of Justice, 810 Seventh Street NW., Washington, DC 20531.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Reinstatement, With Change, of a Previously Approved Collection for Which Approval has Expired.

(2) Title of the Form/Collection: Accounting System and Financial Capability Questionnaire.

(3) Agency form number, if any, and the applicable component of the Department of Justice sponsoring the collection: Form Number: OJP Form 7120/1. Office of Justice Programs, U.S. Department of Justice.

(4) Affected public who will be asked or required to respond, as well as a brief abstract: Primary: Not-for-profit institutions. Other: For-profit institutions. This form will be completed by applicants that are newly-formed firms or established forms with no previous grants awarded by the Office of Justice Programs. It is used as an aide to determine those applicants/grantees that may require special attention in matters relating to the accountability of Federal funds. This information is required for assessing the financial risk of a potential recipient in administrating federal funds in accordance with OMB Circular A-110 and 28 CFR part 70.

(5) An estimate of the total number of respondents and the amount of time estimated for an average respondent to respond: It is estimated that 1,250 respondents receiving a grant of $500,000 or more will complete a 1-hour Equal Employment Opportunity Plan Short Form and submit it to the Office of Justice Programs. In addition, an estimated 7000 respondents seeking grants ranging from $25,000 up to $500,000 will be required to complete the ¼ hour certification stating that they are maintaining a current Equal Employment Opportunity Plan on file and submit the certification to the Office of Justice Programs.

(6) An estimate of the total public burden (in hours) associated with the collection: The total hour burden to complete the Equal Employment Opportunity Plan Short Form is 1250 hours. The total hour burden to complete the EEOP certification is 1750. The annual burden hours is 3000.

If additional information is required contact: Brenda E. Dyer, Department Deputy Clearance Officer, Information Management and Security Staff, Justice Management Division, Department of Justice, Patrick Henry Building, Suite 1600, 601 D Street NW., Washington, DC 20530.

Dated: August 8, 2002.
Brenda E. Dyer,
Department Deputy Clearance Officer, Department of Justice.

[FR Doc. 02-20443 Filed 8-12-02; 8:45 am]

BILLING CODE 4410-18-M